DEPARTMENT OF ENERGY

Federal Energy Regulatory Commission

[Docket No. AD08-8-000]

Demand Response in Organized Electric Markets; Notice of Technical Conference

April 10, 2008.

Take notice that on May 21, 2008, Commission staff will convene a technical conference to consider issues related to demand response in organized electric markets, as discussed in the Notice of Proposed Rulemaking issued in Docket Nos. RM07-19-000 and AD07-7-000. Wholesale Competition in Regions with Organized Electric Markets, 122 FERC ¶ 61,167, at P 95 (2007). The technical conference will be held from 9 am to 5 pm (EDT), in the Commission Meeting Room at the Federal Energy Regulatory Commission, 888 First Street, NE., Washington, DC 20426. All interested persons are invited to attend. Telephone participation will not be available.

Issues that will be examined at the technical conference include: the value of demand response in organized markets; comparable compensation of demand response in organized markets; barriers to comparable treatment of demand response that have not previously been identified; solutions to eliminate such barriers; and the need for and the ability to standardize terms, practices, rules and procedures associated with demand response. A further notice with detailed information will be issued in advance of the conference.

Commission staff is now soliciting nominations for speakers at the technical conference. Persons wishing to nominate themselves as speakers should do so using the following electronic link: https://www.ferc.gov/whats-new/registration/demand-response-05-21-speaker-form.asp. Such nominations must be made before the close of business on April 23, 2008, so that an agenda for the technical conference can be drafted and published.

A free webcast of this event is available through www.ferc.gov. Anyone with Internet access who desires to view this event can do so by navigating to the Calendar of Events at www.ferc.gov and locating this event in the Calendar. The event will contain a link to its webcast. The Capitol Connection provides technical support for the free webcasts. It also offers access to this event via television in the Washington, DC area and via phone-bridge for a fee. If you have any questions, visit www.CapitolConnection.org or contact Danelle Perkowski or David Reininger at 703-993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact:

Ryan Irwin, Office of Energy Market Regulation, Federal Energy Regulatory Commission, 888 First Street, NE., Washington, DC 20426, (202) 502-6454, Ryan.Irwin@ferc.gov.

Elizabeth Arnold, Office of the General Counsel—Energy Markets, Federal Energy Regulatory Commission, 888 First Street, NE., Washington, DC 20426, (202) 502-8818, Elizabeth.Arnold@ferc.gov.

Kimberly D. Bose,
Secretary.

[FR Doc. E8-8151 Filed 4-15-08; 8:45 am]

BILLING CODE 6717-01-P